DEPARTMENT OF JUSTICE

Drug Enforcement Administration

Mladen Antolic, M.D.; Decision and Order

On August 8, 2011, the Deputy Assistant Administrator, Office of Diversion Control, Drug Enforcement Administration, issued an Order to Show Cause to Mladen Antolic, M.D. (Registrant), of Orlando, Florida. The Show Cause Order proposed the revocation of Registrant's DEA Certificate of Registration BA1325528, as a practitioner in Schedules II through V, on the ground that he does “not have authority to practice medicine or handle controlled substances in the state of Florida.” Show Cause Order at 1 (citing 21 U.S.C. 824(a)(3)).

The Show Cause Order alleged that “on or about March 29, 2011, the Florida Department of Health [had] ordered the emergency suspension of [Registrant's] medical license,” and that he is thus “without authority to handle controlled substances in the State of Florida, the state in which [he is] registered with DEA.” Id. The Show Cause Order alleged that the state suspension was based on allegations that Registrant had engaged “in sexual activity with patient(s),” that he “[i]nappropriately dispens[ed], administer[ed] or otherwise provid[ed] controlled substances to individuals in [his] home as payment for sex or for recreational use,” and that he had “[a]dminister[ed] controlled substances to [him]self when such controlled substances were not prescribed to [him] by a practitioner authorized to prescribe, dispense or administer medicinal drugs.” Id. at 1-2 (citing Fla. Sta. § 458.331(1)(j), (q), (r)). In addition to the allegations, the Order notified Registrant of his right to request a hearing on the allegations or to submit a written statement in lieu of a hearing, the procedure for doing either, and the consequence for failing to do either. Id. at 2 (citing 21 CFR 1301.43).

On August 12, 2011, DEA Diversion Investigators personally served the Show Cause Order on Registrant, in the presence of his attorney. GX 3 (Affidavit of DI). Since the date of service of the Order, thirty days have now have passed and neither Registrant, nor anyone purporting to represent him, has requested a hearing or submitted a written statement in lieu of a hearing. I therefore find that Registrant has waived his right to a hearing or to submit a written statement in lieu of a hearing and issue this Decision and Final Order based on relevant evidence contained in the record submitted by the Government. 21 CFR 1301.43(d) & (e). I make the following findings of fact.

Findings

Registrant is the holder of DEA Certificate of Registration BA1325528, which authorizes him to dispense controlled substances in Schedules II through V, as a practitioner, at the registered address of 509 W. Colonial Drive, Orlando, Florida 32804. GX 1. His registration has an expiration date of June 30, 2012. Id.

On March 29, 2011, the Acting State Surgeon General of the Florida Department of Health (DOH) issued to Registrant an Order of Emergency Suspension of License (hereinafter, DOH Order). GX 4, at 11. The State Surgeon General suspended Registrant's license based on findings that he violated Florida Statutes sections 458.331(1)(j) (exercising influence within a patient-physician relationship for purposes of engaging a patient in sexual activity), 458.331(1)(q) (inappropriately dispensing, administering or otherwise providing oxycodone, cocaine or Xanax to people at his home), and 458.331(1)(r) (engaging in prescribing, dispensing or administering any medicinal drug appearing on any schedule * * * to himself * * * except one prescribed * * * by another practitioner authorized to prescribe, dispense or administer medicinal drugs.). DOH Order, at 8-9.

Registrant did not dispute or respond to the State's allegations. GX 5, at 1 (Final Order, at 2, Department of Health v. Mladen Antolic, M.D., DOH Case No. 2010-20687 (Fla. Bd. of Med. Oct. 6, 2010)). Accordingly, on October 6, 2011, the Florida Board of Medicine issued a final order revoking Registrant's state medical license. Id. at 2. I therefore find that Registrant currently lacks authority under Florida law to dispense controlled substances.

Discussion

The Controlled Substances Act (CSA) grants the Attorney General authority to revoke a registration “upon a finding that the registrant * * * has had his State license or registration suspended [or] revoked * * * and is no longer authorized by State law to engage in the * * * distribution [or] dispensing of controlled substances.” 21 U.S.C. 824(a)(3). Moreover, DEA has long held that a practitioner must be currently authorized to handle controlled substances in the jurisdiction in which he practices in order to maintain a DEA registration. See Gerald T. Hanley, 53 FR 5658 (1988). This rule derives from the text of the CSA, which defines “the term `practitioner' [to] mean[] a * * * physician * * * or other person licensed, registered or otherwise permitted, by * * * the jurisdiction in which he practices * * * to distribute, dispense, [or] administer * * * a controlled substance in the course of professional practice,” 21 U.S.C. 802(21), and which imposes, as a condition for obtaining a registration, that a practitioner be authorized to dispense controlled substances under the laws of the State in which he practices. See id. § 823(f) (“The Attorney General shall register practitioners * * * if the applicant is authorized to dispense * * * controlled substances under the laws of the State in which he practices.”).

As these provisions make plain, possessing authority under state law to dispense controlled substances is an essential condition for holding a DEA registration. See David W. Wang, 72 FR 54297, 54298 (2007); Sheran Arden Yeates, 71 FR 39130, 39131 (2006); Dominick A. Ricci, 58 FR 51104, 51105 (1993); Bobby Watts, 53 FR 11919, 11920 (1988). Therefore, because Registrant no longer has authority to dispense controlled substances in the State in which he holds his DEA registration and formerly engaged in professional practice, he is not entitled to maintain his DEA registration. See 21 U.S.C. 802(21), 823(f), and 824(a)(3). Accordingly, Registrant's registration will be revoked.

Order

Pursuant to the authority vested in me by 21 U.S.C. 823(f) and 824(a), as well as 28 CFR 0.100(b), I order that DEA Certificate of Registration BA1325528, issued to Mladen Antolic, M.D., be, and it hereby is, revoked. I further order that any pending application of Mladen Antolic, M.D., to renew or modify his registration, be, and it hereby is, denied. This Order is effective immediately.¹

¹ For the same reasons that the State imposed its emergency suspension of Respondent's medical license, I conclude that the public interest requires that this Order be effective immediately. 21 CFR 1316.66.

Dated: December 23, 2011.
Michele M. Leonhart,
Administrator.

[FR Doc. 2012-1492 Filed 1-24-12; 8:45 am]

BILLING CODE 4410-09-P